NUCLEAR REGULATORY COMMISSION

[Docket No. 50-391; NRC-2008-0369]

Issuance of Operating License and Record of Decision; Tennessee Valley Authority; Watts Bar Nuclear Plant, Unit 2

AGENCY: Nuclear Regulatory Commission.

ACTION: Operating license and record of decision; issuance.

SUMMARY: The U.S. Nuclear Regulatory Commission (NRC) has issued operating license No. NPF-96 to Tennessee Valley Authority (TVA), the operator of Watts Bar Nuclear Plant (WBN), Unit 2. Operating license No. NPF-96 authorizes full power operation of WBN, Unit 2. In addition, the NRC has prepared a Record of Decision (ROD) that supports the NRC's decision to issue operating license No. NPF-96.

DATES: Operating license No. NPF-96 was effective on October 22, 2015.

ADDRESSES: Please refer to Docket ID NRC-2008-0369 when contacting the NRC about the availability of information regarding this document. You may obtain publicly-available information related to this document using any of the following methods:

• Federal Rulemaking Web site: Go to http://www.regulations.gov and search for Docket ID NRC-2008-0369. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Robert Schaaf, Office of Nuclear Reactor Regulation, U.S. Nuclear Regulatory Commission, Washington, DC 20555-0001; telephone: 301-415-6020; email: Robert.Schaaf@nrc.gov.

SUPPLEMENTARY INFORMATION:

I. Introduction

Notice is hereby given that the NRC issued operating license No. NPF-96 to TVA, the operator of WBN, Unit 2. Operating license No. NPF-96 authorizes full power operation of WBN, Unit 2. The NRC's ROD that supports its decision to issue operating license No. NPF-96 is available in ADAMS. The NRC staff's safety analysis of TVA's application for the operating license is documented in NUREG-0847, “Safety Evaluation Report Related to the Operation of Watts Bar Nuclear Plant, Units 1 and 2”, as supplemented through Supplement 29. The NRC staff's updated assessment of the environmental impacts of operation is documented in NUREG-0498, “Final Environmental Statement Related to the Operation of Watts Bar Nuclear Plant, Unit 2,” Supplement 2. The NRC finds that the updated application for the operating license filed by TVA on March 4, 2009, complies with the requirements of the Atomic Energy Act of 1954, as amended, and the NRC's regulations.

The NRC originally intended for this notice to be published in the Federal Registerimmediately following issuance of the WBN, Unit 2, operating license on October 22, 2015; however, during recent verification of operating license documentation the NRC identified that the notice had not been forwarded to the Office of the Federal Register for publication as intended.

II. Further Information

The NRC prepared a “Safety Evaluation Report Related to the Operation of Watts Bar Nuclear Plant, Units 1 and 2” (NUREG-0847), that was published in June 1982, and Supplements 1 through 29 that were published between September 1982 and October 2015. In Supplements 1 through 20 the NRC staff concluded that WBN, Unit 1, met all applicable regulations and regulatory guidance. In Supplement 21, the NRC staff reported on the WBN, Unit 2, open items remaining to be resolved, which were outstanding at the time that TVA deferred construction of WBN, Unit 2. In Supplements 22 through 29, the NRC staff documented its evaluation and closure of the open items in response to TVA's updated application for a license to operate WBN Unit 2, filed on March 4, 2009. The NRC staff also prepared a “Final Environmental Statement Related to the Operation of Watts Bar Nuclear Plant, Unit 2” (NUREG-0498), Supplement 2, dated May 2013. NUREG-0847 and its supplements and NUREG-0498, Supplement 2, document the information reviewed and the NRC's conclusions. The NRC also prepared a ROD in accordance with the Commission's regulations to accompany its action on the operating license application. The ROD incorporates by reference the materials contained in NUREG-0498, Supplement 2.

III. Availability of Documents

The documents identified in the following table are available to interested persons, as indicated.

Document | ADAMS accession No.
“Watts Bar Nuclear Plant (WBN) Unit 2—Operating License Application Update” | ML090700378.
“Safety Evaluation Report Related to the Operation of Watts Bar Nuclear Plant, Units 1 and 2” (NUREG-0847), and Supplement 21 through Supplement 29 | ML072060490, ML072060500, ML072060518, ML072060520, ML072060524, ML072060527, ML072060464, ML072060471, ML072060478, ML072060469, ML072060473, ML072060476, ML072060479, ML072060484, ML072060486, ML072060488, ML072060493, ML072060496, ML070530364, ML070530539, ML072060498, ML090570741, ML110390197, ML11206A499, ML11277A148, ML12011A024, ML13205A136, ML15033A041, ML15229A195, ML15282A051.
“Final Environmental Statement Related to the Operation of Watts Bar Nuclear Plant, Unit 2” (NUREG-0498), Supplement 2 | ML13144A092.
Letter transmitting Operating License No. NPF-96 and accompanying documentation | ML15251A587.
Record of Decision | ML15257A130.

Dated at Rockville, Maryland, this 27th day of April 2016.
For the Nuclear Regulatory Commission.
Anne T. Boland,
Director, Division of Operating Reactor Licensing, Office of Nuclear Reactor Regulation.

[FR Doc. 2016-10950 Filed 5-9-16; 8:45 am]

BILLING CODE 7590-01-P